DEPARTMENT OF ENERGY

Electricity Advisory Committee

AGENCY: Office of Electricity, Department of Energy.

ACTION: Notice of open meeting.

SUMMARY: This notice announces a meeting of the Electricity Advisory Committee (EAC). The Federal Advisory Committee Act requires that public notice of these meetings be announced in the Federal Register.

DATES: Wednesday, March 9, 2022; 11:45 a.m.-6:05 p.m. EST; Thursday, March 10, 2022; 11:45 a.m.—5:00 p.m. EST.

ADDRESSES: Due to ongoing precautionary measures surrounding the spread of COVID-19, the March meeting of the EAC will be held via WebEx video and teleconference. In order to track all participants, the Department is requiring that those wishing to attend register for the meeting here: https://www.energy.gov/oe/march-9-10-2022-meeting-electricity-advisory-committee. Please note, you must register for each day you would like to attend.

FOR FURTHER INFORMATION CONTACT: Matt Aronoff, Acting Designated Federal Officer, Office of Electricity, U.S. Department of Energy, Washington, DC 20585; Telephone: (240) 306-7866 or Email: matthew.aronoff@hq.doe.gov.

SUPPLEMENTARY INFORMATION: Purpose of the Committee: The EAC was established in accordance with the provisions of the Federal Advisory Committee Act (FACA), as amended, to provide advice to the U.S. Department of Energy (DOE) in implementing the Energy Policy Act of 2005, executing certain sections of the Energy Independence and Security Act of 2007, and modernizing the nation's electricity delivery infrastructure. The EAC is composed of individuals of diverse backgrounds selected for their technical expertise and experience, established records of distinguished professional service, and their knowledge of issues that pertain to the electric sector.

Tentative Agenda

March 9, 2022

11:45 a.m.-12:00 p.m.—WebEx Attendee Sign-On

12:00 p.m.-12:20 p.m.—Welcome, Introductions, Developments since the October 2021 Meeting

12:20 p.m.-12:50 p.m.—Update on Office of Electricity Programs and Initiatives

12:50 p.m.-1:20 p.m.—Update on Federal Energy Regulatory Commission Activities

1:20 p.m.-1:30 p.m.—Break

1:30 p.m.-3:30 p.m.—Facilitating the Integration and Commercialization of Energy Storage: How DOE can Leverage its Role and Resources

3:30 p.m.-3:50 p.m.—Break

3:50 p.m.-5:50 p.m.—Data Interoperability for a Smooth Transition of EV Deployment

5:50 p.m.-6:05 p.m.—Wrap-up and Adjourn Day 1

March 10, 2022

11:45 a.m.-12:00 p.m.—WebEx Attendee Sign-On

12:00 p.m.-12:10 p.m.—Day 2 Opening Remarks

12:10 p.m.-12:40 p.m.—Briefing: Cyber-Informed Engineering Strategy

12:40 p.m.-2:20 p.m.— Panel and Discussion: DOE Recommendations to the White House on the Energy Sector Industrial Base

2:20 p.m.-2:35 p.m.—Break

2:35 p.m.-3:35 p.m.—Update and Discussion on Section 8008 Voluntary Model Pathways Development

3:35 p.m.-3:55 p.m.—Subcommittee Update: Grid Resilience for National Security

3:55 p.m.-4:10 p.m.—Subcommittee Update: Energy Storage

4:10 p.m.-4:25 p.m.—Subcommittee Update: Smart Grid

4:25 p.m.-4:45 p.m.—Public Comments

4:45 p.m.-5:00 p.m.—Wrap-up and Adjourn March 2022 Meeting of the EAC

The meeting agenda and times may change to accommodate EAC business. For EAC agenda updates, see the EAC website at: http://energy.gov/oe/services/electricity-advisory-committee-eac.

Public Participation: The EAC welcomes the attendance of the public at its meetings. Individuals who wish to offer public comments at the EAC meeting may do so on March 10, 2022, but must register in advance by 5:00 Eastern Time on March 9, 2022. Approximately 20 minutes will be reserved for public comments. Time allotted per speaker will depend on the number who wish to speak but is not expected to exceed three minutes. Anyone who is not able to attend the meeting, or for whom the allotted public comments time is insufficient to address pertinent issues with the EAC, is invited to send a written statement identified by “Electricity Advisory Committee March 2022 Meeting,” to Mr. Matt Aronoff at matthew.aronoff@hq.doe.gov.

Minutes: The minutes of the EAC meeting will be posted on the EAC web page at http://energy.gov/oe/services/electricity-advisory-committee-eac. They can also be obtained by contacting Mr. Matt Aronoff at the address above.

Signed in Washington, DC, on February 8, 2022.
LaTanya Butler,
Deputy Committee Management Officer.

[FR Doc. 2022-03049 Filed 2-11-22; 8:45 am]

BILLING CODE 6450-01-P